DEPARTMENT OF DEFENSE

Department of the Army, U.S. Army Corps of Engineers

Notice of Availability of the Draft Environmental Impact Statement for the Proposed Point Thomson Project, North Slope Borough, AK

AGENCY: Corps of Engineers, Department of the Army, Department of Defense.

ACTION: Notice of Availability.

SUMMARY: In accordance with the National Environmental Policy Act (NEPA), the U.S. Army Corps of Engineers, Alaska District, has prepared a Draft Environmental Impact Statement (EIS) on the proposed development by the Exxon Mobil Corporation and PTE Pipeline LLC (Applicant). The Draft EIS evaluates project alternatives and potential impacts to the environment which may occur from the Applicant's proposal to construct industrial infrastructure and produce liquid hydrocarbon resources near Point Thomson, Alaska. The proposed project includes the construction of structures in navigable waters of the United States (U.S.) and the discharge of dredged and/or fill materials into waters of the U.S., including wetlands. The proposed work requires authorization from the Corps of Engineers under Section 10 of the Rivers and Harbors Act (RHA) of 1899 and Section 404 of the Clean Water Act (CWA). The Draft EIS will be used to evaluate the Applicant's Department of the Army permit application and compliance with NEPA.

Draft EIS Availability: Electronically available for viewing, copying, or printing at: http://www.pointthomsonprojecteis.com.

A printed Executive Summary, which includes 2 Compact Discs containing the entire Draft EIS, can be obtained electronically through the project Web site address immediately above.

Draft EIS Comment Period: The 45-day review and comment period begins on November 18, 2011 and ends on January 3, 2012.

Send written comments, postmarked by January 3, 2012, to: Harry A. Baij Jr., U.S. Army Corps of Engineers, Alaska District, Regulatory Division, Post Office Box 6898, JBER, AK 99506-0898.

Send electronic comments, received by January 3, 2012, to: comments@pointthomsonprojecteis.com.

FOR FURTHER INFORMATION CONTACT: Contact Mr. Baij by email message at harry.a.baij@usace.army.mil, by telephone at (800) 478-2712 (toll free within AK), (907) 753-2784 (office), or (907) 350-5097 (cell).

SUPPLEMENTARY INFORMATION: The Corps of Engineers, Alaska District, has published a Public Notice of Application for Permit for the Applicant's proposal to coincide with this Notice of Availability. The Public Notice can be viewed at http://www.poa.usace.army.mil/reg. Navigate to the “Public Notice” button and file number POA-2001-1082-M1, Beaufort Sea. Comments on the Public Notice can be submitted by clicking on the Submit Comments button at the Public Notice Web page. The comment period is identical to the Draft EIS comment period.

1. Authorities: Section 404 of the Clean Water Act (33 U.S.C. 1344) and Section 10 of the Rivers and Harbors Act of 1899 (33 U.S.C. 403).

2. Background Information: The Corps of Engineers, Alaska District, received the Applicant's complete permit application on November 1, 2011. The Applicant's purpose is to produce liquid hydrocarbons and delineate and evaluate hydrocarbon resources in the Point Thomson area. Two natural gas production wells have been previously authorized, drilled, and tested at an existing gravel pad at Point Thomson, AK. Other previously authorized gravel pads and exploration wells also exist in the general area.

3. Location: Alaska's Arctic Coastal Plain, Beaufort seacoast, approximately 60 miles east Prudhoe Bay. Most of the reservoir is located under the Beaufort Sea in State of Alaska waters. The proposed facilities would be located primarily onshore, on State of Alaska lands, leased to the Applicant. Kaktovik, AK is located approximately 60 miles east. The Arctic National Wildlife Refuge is approximately 2 miles east.

4. Proposed Project: Industrial development involving gravel fill placement in tundra waters and wetlands and marine structures.

Construct a large gravel mine; a mile-long gravel airstrip; 3 production and/or processing gravel pads; several miles of in-field gravel roads; similar length in-field above-ground pipelines; a marine bulkhead, service pier, and mooring dolphins; navigational dredging; and other industrial infrastructure. Processed liquid hydrocarbons would be transported through a new 22-mile long elevated pipeline to existing facilities to the west and further connections to the Trans Alaska Pipeline System.

Construct temporary and permanent camps (lodging); offices, warehouses, and shops; electric power generation and distribution facilities; fuel, water, and chemical storage; a water and wastewater treatment facility; a grind and inject drilling waste facility; a solid waste facility; and communications facilities.

Directionally drill a minimum of five wells on three gravel pads: Central, East, and West. The Central Pad would be the largest and the primary location for construction and operations, processing fluids, locating a gas injection well for recycling natural gas, and a wastewater disposal well. The East and West Pads would include wells to delineate and evaluate the hydrocarbon reservoir for additional oil and gas resources and facilitate production.

5. Draft EIS Alternatives: Four alternatives were developed and evaluated in the Draft EIS that would meet the Applicant's purpose and need. The No Action Alternative is used for comparison of the environmental effects of the action alternatives and involves long term monitoring and maintenance of the existing wells and gravel pads. Three Action Alternatives were developed. Two action alternatives would minimize impacts to coastal resources by locating infrastructure components inland from the coastline and reducing coastal access. These 2 alternatives consider alternative transportation routes, such as ice roads and an all-season gravel road in-lieu of barge access. A third alternative was developed to reduce impacts to waters and wetlands by minimizing the total gravel fill footprint. A complete description of the alternatives development, screening process, and the alternatives carried forward for detailed study, is disclosed in Section 2 of the Draft EIS.

6. Scoping Process: A Notice of Intent to prepare a Draft EIS for the Proposed Point Thomson Project was published on December 4, 2009. The Corps of Engineers conducted public, Tribal, and agency scoping meetings in AK prior to preparing the Draft EIS. Results from the scoping process were summarized a Public Scoping Document and are addressed in the Draft EIS.

7. Public Locations for Draft EIS: The Draft EIS is available for review at the following public libraries and schools:

a. Harold Kaveolook School, Kaktovik, AK

b. Nuiqsut Trapper School, Nuiqsut, AK

c. Tuzzy Consortium Library, Barrow, AK

d. Noel Wein Library, Fairbanks, AK

e. Z.J. Loussac Library, Anchorage, AK

f. Alaska Resources Library and Information Services, Anchorage, AK

g. University of Alaska, Anchorage Library, Anchorage, AK

8. Public Meetings: Open house and public comment meetings will be held at the following times and locations:

05 December 2011 | Anchorage, AK | Open House | 4-6 p.m.
| Loussac Library | Public Comment | 6:30-8 p.m.
07 December 2011 | Fairbanks, AK | Open House | 4-6 p.m.
| Westmark Hotel | Public Comment | 6:30-8 p.m.
12 December 2011 | Kaktovik, AK | Open House | 6-7:30 p.m.
| Marsh Creek Inn | Public Comment | 8-9 p.m.
13 December 2011 | Nuiqsut, AK | Open House | 4-6 p.m.
| Trapper School | Public Comment | 6:30-8 p.m.
15 December 2011 | Barrow, AK | Open House | 4-6 p.m.
| Hobson Middle School | Public Comment | 6:30-8 p.m.

Review and comment of this Draft EIS is encouraged. Requests to be placed on a mailing list for future announcements can be sent to Mr. Baij at the contact information above. The Corps of Engineers will give full consideration to all public comments received on the Draft EIS. A summary of the public meetings, written comment letters, and responses will be incorporated into the Final EIS, as appropriate.

Dated: November 7, 2011.
Harry A. Baij, Jr.,
Project Manager, US Army Corps of Engineers, Alaska District.

[FR Doc. 2011-29632 Filed 11-15-11; 8:45 am]

BILLING CODE 3720-58-P